OVERSEAS PRIVATE INVESTMENT CORPORATION

[DFC-013]

Submission for OMB Review; Comments Request

AGENCY: U.S. International Development Finance Corporation (DFC), Overseas Private Investment Corporation (OPIC).

ACTION: Notice of information collection; request for comment.

SUMMARY: Under the provisions of the Paperwork Reduction Act, agencies are required to publish a notice in the Federal Register notifying the public that the agency is creating a new information collection for OMB review and approval and requests public review and comment on the submission. The agencies received no comments in response to the sixty (60) day notice. The purpose of this notice is to allow an additional thirty (30) days for public comments to be submitted. Comments are being solicited on the need for the information; the accuracy of the burden estimate; the quality, practical utility, and clarity of the information to be collected; and ways to minimize reporting the burden, including automated collected techniques and uses of other forms of technology.

DATES: DFC intends to begin use of this collection upon OMB approval. Comments must be received by October 7, 2019.

ADDRESSES: Comments and requests for copies of the subject information collection may be sent by any of the following methods:

• Mail: Catherine F.I. Andrade, Agency Submitting Officer, Overseas Private Investment Corporation, 1100 New York Avenue NW, Washington, DC 20527.

• Email: fedreg@opic.gov.

Instructions: All submissions received must include the agency name and agency form number or OMB form number for this information collection. Electronic submissions must include the agency form number in the subject line to ensure proper routing. Please note that all written comments received in response to this notice will be considered public records.

FOR FURTHER INFORMATION CONTACT: Agency Submitting Officer: Catherine F.I. Andrade, (202) 336-8768.

SUPPLEMENTARY INFORMATION: The Better Utilization of Investments Leading to Development (BUILD) Act of 2018, 22 U.S.C. 9601-9689, creates the U.S. International Development Finance Corporation (DFC) by bringing together the Overseas Private Investment Corporation (OPIC) and the Development Credit Authority (DCA) office of the U.S. Agency for International Development (USAID). Section 9685(a) of the Act tasks OPIC staff with assisting DFC in the transition. Section 9686(a)-(b) provides that all completed administrative actions and all pending proceedings shall continue through the transition to the DFC. Accordingly, OPIC is issuing this Paperwork Reduction Act notice and request for comments on behalf of the DFC.

The agencies received no comments in response to the sixty (60) day notice published in Federal Register volume 84 page 30782 on June 27, 2019.

Summary Form Under Review

Title of Collection: Loan Transaction and Qualifying Loan Schedule Reports.

Type of Review: New information collection.

Agency Form Number: DFC-013.

OMB Form Number: Not assigned, new information collection.

Frequency: Semi-annual.

Affected Public: Financial Institutions.

Total Estimated Number of Annual Number of Respondents: 300.

Estimated Time per Respondent: 4 hours.

Total Estimated Number of Annual Burden Hours: 2,400 hours.

Abstract: Semi-annual reporting by partner financial institutions via the Loan Transaction and Qualifying Loan Schedule Reports will be required to monitor financial compliance with the business terms in loan and bond guarantees administered by the DFC's Office of Development Credit and to analyze the guarantee portfolio and loans placed under guarantee coverage. The information collected in the reports may also play a role, when coupled with other methods and tools, in evaluating program effectiveness.

Dated August 30, 2019.
Nichole Skoyles,
Administrative Counsel, Department of Legal Affairs.

[FR Doc. 2019-19172 Filed 9-4-19; 8:45 am]

BILLING CODE 3210-01-P